SMALL BUSINESS ADMINISTRATION

Senior Executive Service: Performance Review Board Members

AGENCY: U.S. Small Business Administration.

ACTION: Notice of members for the FY 2009 Performance Review Board.

SUMMARY: Title 5 U.S.C. 4314(c)(4) requires each agency to publish notification of the appointment of individuals who may serve as members of that Agency's Performance Review Board (PRB). The following individuals have been designated to serve on the FY 2009 Performance Review Board for the U.S. Small Business Administration.

1. Eileen Harrington, Chair, Chief Operating Officer.

2. Jonathan Carver, Chief Financial Officer and Associate Administrator for Performance Management.

3. James Rivera, Deputy Associate Administrator for Disaster Assistance.

4. Sara Lipscomb, General Counsel.

5. Ana Ma, Chief of Staff.

Dated: October 28, 2009.
Karen G. Mills,
Administrator.

[FR Doc. E9-26383 Filed 11-2-09; 8:45 am]

BILLING CODE P